DEPARTMENT OF THE TREASURY

Submission for OMB Review; Comment Request

October 24, 2016.

The Department of the Treasury will submit the following information collection requests to the Office of Management and Budget (OMB) for review and clearance in accordance with the Paperwork Reduction Act of 1995, Public Law 104-13, on or after the date of publication of this notice.

DATES: Comments should be received on or before November 28, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Bureau of the Fiscal Service (Fiscal Service)

OMB Control Number: 1530-0006.

Type of Review: Extension without change of a currently approved collection.

Title: Direct Deposit Sign-Up Form and Go Direct Sign Up Form.

Forms: SF-1199A, FS Form 1200, FS Form 1200VADE, FS Form 1201L, FS Form 1201S.

Abstract: The Direct Deposit Sign-Up Form is used by recipients to authorize the deposit of Federal payments into their accounts at financial institutions. The information is used to route the Direct Deposit payment to the correct account at the correct financial institution. It identifies persons who have executed the form.

Affected Public: Individuals or Households.

Estimated Total Annual Burden Hours: 67,786.

OMB Control Number: 1530-0011.

Type of Review: Extension without change of a currently approved collection.

Title: Assignment Form.

Form: FS Form 6314.

Abstract: This form is used when an award holder wants to assign or transfer all or part of his/her award to another person. When this occurs, the award holder forfeits all future rights to the portion assigned.

Affected Public: Individuals or Households.

Estimated Total Annual Burden Hours: 75.

OMB Control Number: 1530-0016.

Type of Review: Extension without change of a currently approved collection.

Title: 31 CFR part 208—Management of Federal Agency Disbursements.

Abstract: This regulation requires that most Federal payments be made by Electronic Funds Transfer (EFT); sets forth waiver requirements; and provides for a low-cost Treasury-designated account to individuals at a financial institution that offers such accounts.

Affected Public: Businesses or other for-profits.

Estimated Total Annual Burden Hours: 325.

OMB Control Number: 1530-0025.

Type of Review: Extension without change of a currently approved collection.

Title: Request To Reissue United States Savings Bonds.

Form: FS Form 4000.

Abstract: The information is requested to support a request to reissue paper (definitive) Series EE, HH, and I United States Savings Bonds, Retirement Plan Bonds, and Individual Retirement Bonds and to indicate the new registration required.

Affected Public: Individuals or Households.

Estimated Total Annual Burden Hours: 57,500.

OMB Control Number: 1530-0039.

Type of Review: Extension without change of a currently approved collection.

Title: U.S. Treasury Securities State and Local Government Series Early Redemption Request.

Form: FS Form 5377.

Abstract: The information is used to process early redemption requests for the owners of State and Local Government Series Securities.

Affected Public: State, Local, and Tribal Governments.

Estimated Total Annual Burden Hours: 247.

Bob Faber,
Acting Treasury PRA Clearance Officer.

[FR Doc. 2016-25974 Filed 10-26-16; 8:45 am]

BILLING CODE 4810-AS-P